DEPARTMENT OF TRANSPORTATION

Federal Aviation Administration

14 CFR Part 39

[Docket No. FAA-2015-4202; Directorate Identifier 2014-NM-016-AD; Amendment 39-18583; AD 2016-14-02]

RIN 2120-AA64

Airworthiness Directives; Airbus Airplanes

AGENCY: Federal Aviation Administration (FAA), Department of Transportation (DOT).

ACTION: Final rule.

SUMMARY: We are superseding Airworthiness Directive (AD) 2012-18-12 for certain Airbus Model A318, A319, and A320 series airplanes. AD 2012-18-12 required modifying the off-wing escape slide (OWS) enclosures on the left-hand (LH) side and right-hand (RH) side of the fuselage. This new AD retains the requirements of AD 2012-18-12 and expands the applicability to all Airbus Model A318, A319, and A320 series airplanes. This AD was prompted by reports that additional OWS part numbers have been affected. We are issuing this AD to prevent off-wing exits on the LH and RH sides of the fuselage from becoming inoperative. During an emergency, inoperative off-wing exits could impair the safe evacuation of occupants, possibly resulting in personal injuries.

DATES: This AD becomes effective August 12, 2016.

The Director of the Federal Register approved the incorporation by reference of certain publications listed in this AD as of August 12, 2016.

The Director of the Federal Register approved the incorporation by reference of a certain other publication listed in this AD as of October 22, 2012 (77 FR 57003, September 17, 2012).

ADDRESSES: For Airbus service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com.

For Air Cruisers service information identified in this final rule, contact Air Cruisers Company, Cage Code 70167, 1747 State Route 34, Wall Township, NJ 07727-3935; telephone 732-681-3527; fax 732-681-9163; Internet http://www.zodiacaerospace.com/en/our-activities/aerosafety/zodiac-evacuation-systems.

For information on the availability of this material at the FAA, call 425-227-1221. It is also available on the Internet at http://www.regulations.gov by searching for and locating Docket No. FAA-2015-4202.

Examining the AD Docket

You may examine the AD docket on the Internet at http://www.regulations.gov by searching for and locating Docket No. FAA-2015-4202; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M 30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 2012-18-12, Amendment 39-17189 (77 FR 57003, September 17, 2012) (“AD 2012-18-12”). AD 2012-18-12 applied to certain Airbus Model A318, A319, and A320 series airplanes. The NPRM published in the Federal Register on October 23, 2015 (80 FR 64375) (“the NPRM”). The NPRM was prompted by reports that additional OWS part numbers have been affected. The NPRM proposed to retain the requirements of AD 2012-18-12, and to expand the applicability to all Airbus Model A318, A319, and A320 series airplanes. We are issuing this AD to prevent off-wing exits on the LH and RH sides of the fuselage from becoming inoperative. During an emergency, inoperative off-wing exits could impair the safe evacuation of occupants, possibly resulting in personal injuries.

The European Aviation Safety Agency (EASA), which is the Technical Agent for the Member States of the European Union, has issued EASA Airworthiness Directive 2014-0025R1, dated May 26, 2014 (referred to after this as the Mandatory Continuing Airworthiness Information, or “the MCAI”), to correct an unsafe condition on all Airbus Model A318, A319, and A320 series airplanes. The MCAI states:

One operator reported a torn out aspirator during scheduled deployment (for on ground testing purposes) of the Left Hand (LH) off-wing [escape] slide (OWS). Investigation results revealed that the aspirator of the OWS system interfered with the extrusion lip of the OWS enclosure during the initial stage of the deployment sequence.

This condition, if not corrected, could lead to an off-wing exit, either LH or Right Hand (RH), becoming unserviceable, which, during an emergency situation, could impair the safe evacuation of occupants, possibly resulting in personal injuries.

To address this potential unsafe condition, Airbus issued Service Bulletin (SB) A320-25-1649 containing modification instructions for certain part number (P/N) OWS enclosures. Consequently, EASA issued [EASA] AD 2010-0210 [http://ad.easa.europa.eu/ad/2010-0210, which corresponds to FAA AD 2012-18-12] to require modification of the affected OWS enclosures.

Since that [EASA] AD was issued, several other OWS P/N[s] have been identified as potentially impacted.

For the reason described above, this [EASA] AD retains the requirements of EASA AD 2010-0210, which is superseded, expands the Applicability to all A318, A319 and A320 aeroplanes, and expands the batch of affected P/N[s] prohibited to be installed on an aeroplane.

For the reason described above, EASA issued AD 2014-0025, retaining the requirements of EASA AD 2010-0210, which was superseded, expanding the Applicability to all A318, A319 and A320 aeroplanes, and expanding the batch of affected P/N[s] prohibited to be installed on an aeroplane. That [EASA] AD also retained the requirements of * * * [an AD, which was superseded], which required modification of the OWS and its aspirator.

This [EASA] AD is revised to amend paragraphs (1) and (3) to restore the original applicability of [a Direction Générale de l'Aviation Civile] DGAC France AD and EASA AD 2010-0210, respectively, and to correct paragraph (2) to give credit for certain production modifications that were equivalent for the in-service actions previously required by [a] DGAC France AD.

You may examine the MCAI in the AD docket on the Internet at http://www.regulations.gov by searching for and locating Docket No. FAA-2015-4202.

Comments

We gave the public the opportunity to participate in developing this AD. The following presents the comment received on the NPRM and the FAA's response to the comment.

Request To Change Parts Installation Prohibitions

United Airlines (United) asked for clarification of the language in paragraph (k) of the proposed AD, which would prohibit the installation of OWS part numbers (P/Ns) including D31865-109, D31865-110, D31865-209, and D31865-210, as identified in paragraph (h)(2) of the proposed AD, but also specifies accomplishing the modification required by paragraph (g) of the proposed AD. United stated that the modification converts those part numbers into D31865-309, D31865-311, D31865-310, and D31865-312, respectively. Therefore, United suggested we remove any language allowing installation of P/Ns D31865-109, D31865-110, D31865-209, and D31865-210 from the proposed AD.

We agree that clarification is necessary. We have moved the language in paragraph (h)(1) of the proposed AD into paragraph (h) of this AD and removed paragraph (h)(2) from this AD. We have also removed the language in paragraph (k) of the proposed AD which specified “except as required by paragraph (h)(2) of this AD for the OWS enclosures identified in paragraph (h) of this AD.” And where paragraph (l)(2) of the proposed AD referred to “paragraph (h)(2),” we have changed this reference to paragraph (h) of this AD.

Conclusion

We reviewed the relevant data, considered the comment received, and determined that air safety and the public interest require adopting this AD with the changes described previously, and minor editorial changes. We have determined that these minor changes:

• Are consistent with the intent that was proposed in the NPRM for correcting the unsafe condition; and

• Do not add any additional burden upon the public than was already proposed in the NPRM.

Related Service Information Under 1 CFR Part 51

Airbus has issued the following service information.

• Airbus Service Bulletin A320-25-1156, Revision 03, dated December 5, 2001. This service information describes procedures for modifying OWS enclosures having P/Ns D31865-101, D31865-102, D31865-103, D31865-104, D31865-105, D31865-106, D31865-107, or D31865-108 of certain Airbus Model A319 and A320 series airplanes.

• Airbus Service Bulletin A320-25-1649, dated February 16, 2010. This service information describes procedures for modifying and installing OWS enclosures having P/Ns D31865-109, D31865-110, D31865-209, or D31865-210, on the LH and RH sides of the fuselage on certain Airbus Model A318, A319, and A320 series airplanes.

Air Cruisers has issued Service Bulletin A320 004-25-84, Revision 4, dated November 9, 2012. This service information describes procedures for modifying the LH and RH OWS.

This service information is reasonably available because the interested parties have access to it through their normal course of business or by the means identified in the ADDRESSES section.

Costs of Compliance

We estimate that this AD affects 851 airplanes of U.S. registry.

The actions required by AD 2012-18-12 and retained in this AD take about 14 work-hours per product, at an average labor rate of $85 per work-hour. Required parts will cost $0 per product. Based on these figures, the estimated cost of the actions that are required by AD 2012-18-12 is $1,190 per product.

We also estimate that it takes about 48 work-hours per product to comply with the basic requirements of this AD. The average labor rate is $85 per work-hour. Required parts will cost $0 per product. Based on these figures, we estimate the cost of this AD on U.S. operators to be $3,472,080, or $4,080 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-18-12, Amendment 39-17189 (77 FR 57003, September 17, 2012), and adding the following new AD:

2016-14-02 Airbus: Amendment 39-18583. Docket No. FAA-2015-4202; Directorate Identifier 2014-NM-016-AD.

(a) Effective Date

This AD becomes effective August 12, 2016.

(b) Affected ADs

This AD replaces (AD) 2012-18-12, Amendment 39-17189 (77 FR 57003, September 17, 2012) (“AD 2012-18-12”).

(c) Applicability

This AD applies to the Airbus airplanes identified in paragraphs (c)(1), (c)(2), and (c)(3) of this AD, certificated in any category, all manufacturer serial numbers.

(1) Model A318-111, -112, -121, and -122 airplanes.

(2) Model A319-111, -112, -113, -114, -115, -131, -132, and -133 airplanes.

(3) Model 320-211, -212, -214, -231, -232, and -233 airplanes.

(d) Subject

Air Transport Association (ATA) of America Code 25, Equipment/furnishings.

(e) Reason

This AD was prompted by reports that additional OWS part numbers have been affected. We are issuing this AD to prevent off-wing exits on the left-hand (LH) and right-hand (RH) sides of the fuselage from becoming inoperative. During an emergency, inoperative off-wing exits could impair the safe evacuation of occupants, possibly resulting in personal injuries.

(f) Compliance

Comply with this AD within the compliance times specified, unless already done.

(g) Retained Modification

This paragraph restates the requirements of paragraph (g) of AD 2012-18-12, with no changes. For airplanes equipped with OWS enclosures having part number (P/N) D31865-109, D31865-110, D31865-209, or D31865-210, except as provided by paragraph (i)(1) of this AD: Within 36 months after October 22, 2012 (the effective date of AD 2012-18-12), modify the OWS enclosures and install an OWS enclosure having P/N D31865-309, D31865-311, D31865-310, or D31865-312 on the LH side and RH side of the fuselage, in accordance with the Accomplishment Instructions of Airbus Service Bulletin A320-25-1649, dated February 16, 2010.

(h) New Modification of Affected OWS Enclosures and Aspirators

For airplanes equipped with an OWS enclosure having P/N D31865-101, D31865-102, D31865-103, D31865-104, D31865-105, D31865-106, D31865-107, or D31865-108, except as provided by paragraph (i)(2) of this AD: Within 36 months after the effective date of this AD, modify the OWS enclosures and their aspirators in accordance with the Accomplishment Instructions of Airbus Service Bulletin A320-25-1156, Revision 03, dated December 5, 2001.

(i) Exceptions to the Requirements of Paragraphs (g) and (h) of This AD

(1) Airplanes having Airbus Modification 30088 embodied in production using an OWS enclosure having P/N D31865-111 or D31865-112 are not affected by the requirements of paragraph (g) of this AD, unless a replacement OWS enclosure, having a part number listed in paragraphs (k)(9) through (k)(12) of this AD, has been installed on that airplane since first flight.

(2) Airplanes on which Airbus Modifications 24850, 25844, and 27275 have been embodied in production, or on which modifications of the LH and RH OWS enclosures and their aspirators have been accomplished using Airbus Service Bulletin A320-25-1156, Revision 01, dated February 2, 1999; or Revision 02, dated October 26, 1999; and Airbus Service Bulletin A320-25-1265, dated June 6, 2001, are compliant with the modification requirement of paragraph (h) of this AD.

(j) Optional Method of Compliance for Paragraph (g) of This AD

Installing both LH and RH OWS that have been modified in accordance with the Accomplishment Instructions of Air Cruisers Service Bulletin A320 004-25-84, Revision 4, dated November 9, 2012, is an acceptable method of compliance with the modification required by paragraph (g) of this AD.

(k) Part Installation Prohibition

As of the effective date of this AD, do not install on any airplane an OWS enclosure having a part number listed in paragraphs (k)(1) through (k)(12) of this AD.

(1) D31865-101.

(2) D31865-102.

(3) D31865-103.

(4) D31865-104.

(5) D31865-105.

(6) D31865-106.

(7) D31865-107.

(8) D31865-108.

(9) D31865-109.

(10) D31865-110.

(11) D31865-209.

(12) D31865-210.

(l) Credit for Previous Actions

(1) This paragraph provides credit for the actions specified in paragraph (h) of this AD, if those actions were performed before the effective date of this AD using the service information identified in paragraph (l)(1)(i) or (l)(1)(ii) of this AD, which is not incorporated by reference in this AD.

(i) Airbus Service Bulletin A320-25-1156, Revision 01, dated February 2, 1999.

(ii) Airbus Service Bulletin A320-25-1156, Revision 02, dated October 26, 1999.

(2) This paragraph provides credit for the actions specified in paragraph (h) of this AD, if those actions were performed before the effective date of this AD using Airbus Service Bulletin A320-25-1265, dated June 6, 2001, which is not incorporated by reference in this AD.

(3) This paragraph provides credit for the actions specified in paragraph (j) of this AD, if those actions were performed before the effective date of this AD using the service information identified in paragraph (l)(3)(i), (l)(3)(ii), (l)(3)(iii), or (l)(3)(iv) of this AD, which is not incorporated by reference in this AD.

(i) Air Cruisers Service Bulletin A320 004-25-84, dated February 5, 2010.

(ii) Air Cruisers Service Bulletin A320 004-25-84, Revision 1, dated April 9, 2010.

(iii) Air Cruisers Service Bulletin A320 004-25-84, Revision 2, dated February 11, 2011.

(iv) Air Cruisers Service Bulletin A320 004-25-84, Revision 3, dated October 28, 2011.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2012-18-12 are approved as AMOCs for the corresponding provisions of paragraph (g) of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(n) Related Information

(1) Refer to Mandatory Continuing Airworthiness Information (MCAI) EASA Airworthiness Directive 2014-0025R1, dated May 26, 2014, for related information. This MCAI may be found in the AD docket on the Internet at http://www.regulations.gov by searching for and locating Docket No. FAA-2015-4202.

(2) Service information identified in this AD that is not incorporated by reference is available at the addresses specified in paragraphs (o)(5), (o)(6), and (o)(7) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on August 12, 2016.

(i) Airbus Service Bulletin A320-25-1156, Revision 03, dated December 5, 2001.

(ii) Air Cruisers Service Bulletin A320 004-25-84, Revision 4, dated November 9, 2012.

(4) The following service information was approved for IBR on October 22, 2012 (77 FR 57003, September 17, 2012).

(i) Airbus Service Bulletin A320-25-1649, dated February 16, 2010.

(ii) Reserved.

(5) For Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) For Air Cruisers service information identified in this AD, contact Air Cruisers Company, Cage Code 70167, 1747 State Route 34, Wall Township, NJ 07727-3935; telephone 732-681-3527; fax 732-681-9163; Internet http://www.zodiacaerospace.com/en/our-activities/aerosafety/zodiac-evacuation-systems.

(7) You may view this service information at the FAA, Transport Airplane Directorate, 1601 Lind Avenue SW., Renton, WA. For information on the availability of this material at the FAA, call 425-227-1221.

(8) You may view this service information that is incorporated by reference at the National Archives and Records Administration (NARA). For information on the availability of this material at NARA, call 202-741-6030, or go to: http://www.archives.gov/federal-register/cfr/ibr-locations.html.

Issued in Renton, Washington, on June 23, 2016.
Dorr M. Anderson,
Acting Manager, Transport Airplane Directorate, Aircraft Certification Service.

[FR Doc. 2016-15902 Filed 7-7-16; 8:45 am]

BILLING CODE 4910-13-P